DEPARTMENT OF COMMERCE

Bureau of Economic Analysis

Proposed Information Collection; Comment Request; Services Surveys: BE-9, Quarterly Survey of Foreign Airline Operators' Revenues and Expenses in the United States

AGENCY: Bureau of Economic Analysis, Department of Commerce.

ACTION: Notice.

SUMMARY: The Department of Commerce, as part of its continuing effort to reduce paperwork and respondent burden, invites the general public and other Federal agencies to comment on proposed and/or continuing information collections, as required by the Paperwork Reduction Act of 1995.

DATES: Written comments must be submitted on or before September 4, 2018.

ADDRESSES: Direct all written comments to Jennifer Jessup, Departmental Paperwork Clearance Officer, Department of Commerce, Room 6616, 14th and Constitution Avenue NW, Washington, DC 20230, or via email at PRAcomments@doc.gov.

FOR FURTHER INFORMATION CONTACT: Requests for additional information or copies of the information collection instrument and instructions should be directed to Christopher Stein, Chief, Services Surveys Branch (SSB) BE-50, Bureau of Economic Analysis, U.S. Department of Commerce, Washington, DC 20233; phone: (301) 278-9189; fax: (301) 278-9507; or via email at christopher.stein@bea.gov.

SUPPLEMENTARY INFORMATION:

I. Abstract

The Quarterly Survey of Foreign Airline Operators' Revenues and Expenses in the United States (BE-9) is a survey that collects data from U.S. offices, agents, or other representatives of foreign airline operators that transport freight, express, and passengers to or from the United States and whose total covered revenues or total covered expenses were $5 million or more in the previous year or are expected to be $5 million or more during the current year. The covered revenues are freight revenue on merchandise exported from, or imported into, the United States. The covered expenses are expenses incurred in the United States for: (1) Fuel and oil; (2) wages and salaries paid to employees in the United States; (3) agents' and brokers' fees and commissions for arrangement of freight and passenger transportation; (4) aircraft handling and terminal services, (5) aircraft (with crew) leasing expenses; and 6) all other expenses incurred in the United States except leasing (without crew) expenses.

Respondents are also asked to report: (1) Shipping weights on which freight revenues were earned; (2) the number of passengers transported to/from the United States; and (3) revenues associated with these passengers.

The data collected on the survey are needed to monitor U.S. trade in transport services to analyze the impact of U.S. trade on the U.S. and foreign economies, to compile and improve the U.S. economic accounts, to support U.S. commercial policy on trade in transport services, to conduct trade promotion, and to improve the ability of U.S. businesses to identify and evaluate market opportunities. The data are used in estimating the transport component of the U.S. international transactions accounts (ITAs) and national income and product accounts (NIPAs).

The Bureau of Economic Analysis (BEA) is proposing no additions or modifications to the current BE-9 survey. The effort to keep current reporting requirements unchanged is intended to minimize respondent burden while considering the needs of data users. Existing language in the instructions and definitions will be reviewed and adjusted as necessary to clarify survey requirements.

II. Method of Collection

BEA contacts potential respondents by mail at the end of each calendar quarter. Respondents must file the completed BE-9 forms within 45 days after the end of each calendar quarter. Reports are required from offices, agents, or other representatives of foreign airline operators that transport freight and express to or from the United States and whose total covered revenues or total covered expenses were $5 million or more in the previous year or are expected to be $5 million or more during the current year. Entities required to report will be contacted individually by BEA. Entities not contacted by BEA have no reporting responsibilities.

BEA offers electronic filing through its eFile system for use in reporting on the BE-9 quarterly survey form. For information about eFile, go to www.bea.gov/efile. In addition, BEA posts all its survey forms and reporting instructions on its website, www.bea.gov/ssb. These may be downloaded, completed, printed, and submitted via fax or mail.

III. Data

OMB Control Number: 0608-0068.

Form Number: BE-9.

Type of Review: Regular submission.

Affected Public: Business or other for-profit organizations.

Estimated Number of Responses: 180 annually (45 filed each quarter: 44 reporting mandatory data, and one that would file an exemption claim).

Estimated Time Per Response: 6 hours is the average for those reporting data. One hour is the average for those filing an exemption claim. Hours may vary considerably among respondents because of differences in the volume and complexity of information on the foreign air carriers represented by the reporter.

Estimated Total Annual Burden Hours: 1,060.

Estimated Total Annual Cost to Public: $0.

Respondent's Obligation: Mandatory.

Legal Authority: International Investment and Trade in Services Survey Act (Pub.L. 94-472, 22 U.S.C. 3101-3108, as amended).

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of Chief Information Officer.

[FR Doc. 2018-14422 Filed 7-3-18; 8:45 am]

BILLING CODE 3510-06-P